DEPARTMENT OF COMMERCE

Foreign-Trade Zones Board

[Docket 13-2009]

Foreign-Trade Zone 33—Pittsburgh, PA; Application for Reorganization/Expansion

An application has been submitted to the Foreign-Trade Zones (FTZ) Board (the Board) by the Regional Industrial Development Corporation of Southwestern Pennsylvania, grantee of FTZ 33, requesting authority to reorganize and expand its zone in the Pittsburgh, Pennsylvania, area, adjacent to the Pittsburgh CBP port of entry. The application was submitted pursuant to the provisions of the Foreign-Trade Zones Act, as amended (19 U.S.C. 81a-81u), and the regulations of the Board (15 CFR part 400). It was formally filed on April 7, 2009.

FTZ 33 was approved on November 9, 1977 (Board Order 124, 42 FR 59398, 11/17/77). The zone was expanded on March 16, 1981 (Board Order 172, 46 FR 18063, 3/23/81) and on May 14, 1998 (Board Order 981, 63 FR 29179, 5/28/98).

The general-purpose zone currently consists of 5 sites (5,616 acres) in the Pittsburgh, Pennsylvania, area: Site 1 (49 acres)—within the 500-acre RIDC Park West, Park West Drive, Findlay Township, Allegheny County; Site 2 (5,352 acres)—within the 10,000-acre Pittsburgh International Airport complex (includes an aviation fuel depot), Pittsburgh; Site 3 (140 acres)—Leetsdale Industrial Park, First and Center Avenues, Leetsdale; Site 4 (60 acres, 3 parcels) located at 115 & 400 Hunt Valley Road within the Westmoreland Business and Research Park in Upper Burrell and Washington Townships, Westmoreland County; and, Site 5 (15 acres) warehouse facilities located at 154 Keystone Drive, New Castle.

The applicant is now requesting authority to reorganize and expand its zone, which includes both additions and deletions with an overall increase of 1,576 acres in total zone space as described below: Site 1 (RIDC Park West)—modify existing Site 1 by removing 21 acres due to changed circumstances and expand to include an additional 27 acres, 7 parcels (new site total—55 acres). The applicant is also requesting that the Board grant permanent authority for Sites 4 and 5, which were granted temporary designation through administrative actions with authority expiring 5/1/11.

In addition, twelve new sites (1,549 acres) are proposed as follows: Proposed Site 6 (73 acres, 10 parcels)—warehouse facilities within the 240-acre City Center Duquesne property, located at South Linden Street, Duquesne, Allegheny County; Proposed Site 7 (65 acres, 13 parcels)—within the 135-acre Industrial Center of McKeesport, 200 Center Street, McKeesport, Allegheny County; Proposed Site 8 (67 acres, 9 parcels)—within the 925-acre Thorn Hill Industrial Park, 119-151 Commonwealth Drive, Warrendale, Butler & Allegheny Counties; Proposed Site 9 (13 acres, 1 parcel)—Lawrenceville Technology Center, Hatfield & 45th Street, Lawrenceville, Allegheny County; Proposed Site 10 (17 acres, 5 parcels)—within the 600-acre Allegheny County Industrial Park, 560-570 Alpha Drive, O'Hara Township, Allegheny County; Proposed Site 11 (38 acres, 7 parcels)—within the 92-acre Keystone Commons, 200-700 Braddock Avenue, Turtle Creek, Allegheny County; Proposed Site 12 (53 acres, 2 parcels)—South Hills Industrial Park, 1200 Lebanon Road, West Mifflin, Allegheny County; Proposed Site 13 (737 acres, 2 parcels)—West Port Industrial Park, PA Route 576 & Burgettstown, Imperial, Allegheny County; Proposed Site 14 (74 acres, 1 parcel)—Hopewell Business & Industrial Park, Gringo-Clinton Road & PA Rt. # 151, Aliquippa, Beaver County; Proposed Site 15 (222 acres)—within the Westgate Business Park, PA Rt. # 18 & Eastwood Road, Homewood, Beaver County; Proposed Site 16 (111 acres, 9 parcels)—within the 372-acre Aliquippa Industrial Park, 101-601.

Steel Street, Aliquippa, Beaver County; and, Proposed Site 17 (80 acres, 10 parcels)—Ambridge Regional Center, 2301 Duss Avenue, Ambridge, Beaver County.

No specific manufacturing authority is being requested at this time. Such requests would be made to the Board on a case-by-case basis.

In accordance with the Board's regulations, Kathleen Boyce of the FTZ Staff is designated examiner to investigate the application and report to the Board.

Public comment is invited from interested parties. Submissions (original and 3 copies) shall be addressed to the Board's Executive Secretary at the address below. The closing period for their receipt is June 15, 2009. Rebuttal comments in response to material submitted during the foregoing period may be submitted during the subsequent 15-day period (to June 29, 2009).

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz.

For further information, contact Kathleen Boyce at 202-482-1346 or Kathleen_Boyce@ita.doc.gov.

Dated: April 7, 2009.
Andrew McGilvray,
Executive Secretary.

[FR Doc. E9-8637 Filed 4-14-09; 8:45 am]

BILLING CODE 3510-DS-P